DEPARTMENT OF AGRICULTURE

Foreign Agricultural Service

Trade Adjustment Assistance for Farmers

AGENCY: Foreign Agricultural Service, USDA.

ACTION: Notice.

SUMMARY: The Administrator, Foreign Agricultural Service (FAS), certified a petition for trade adjustment assistance (TAA) that was filed on February 23, 2004, by the Southeastern Fisheries Association. Florida shrimpers are now eligible to apply for program benefits.

SUPPLEMENTARY INFORMATION: Upon investigation, the Administrator determined that increased imports of farmed shrimp contributed importantly to a decline in the price of shrimp in Florida by 24.5 percent during January 2003 through December 2003, when compared with the previous 5-year average.

Shrimpers certified as eligible for TAA may apply to the Farm Service Agency for benefits through (June 28, 2004). After submitting completed applications, producers shall receive technical assistance provided by the Cooperative State Research, Education, and Extension Service (CSREES) at no cost and an adjustment assistance payment, if certain program criteria are met.

Producers of raw agricultural commodities wishing to learn more about TAA and how they may apply should contact the Department of Agriculture at the addresses provided below for General Information.

Producers Certified As Eligible For TAA, Contact: Farm Service Agency service centers in Florida.

For General Information About TAA, Contact: Jean-Louis Pajot, Coordinator, Trade Adjustment Assistance for Farmers, USDA, (202) 720-2916, e-mail: trade.adjustment@fas.usda.gov.

Dated: March 31, 2004.
A. Ellen Terpstra,
Administrator, Foreign Agricultural Service.

[FR Doc. 04-7766 Filed 5-2-04; 8:45 am]

BILLING CODE 3410-10-M